DEPARTMENT OF JUSTICE

Antitrust Division

Notice Pursuant to the National Cooperative Research and Production Act of 1993—The ATM Forum

Notice is hereby given that, on April 7, 2000, pursuant to Section 6(a) of the National Cooperative Research and Production Act of 1993, 15 U.S.C. 4301 et seq. (“the Act”), The ATM Forum has filed written notifications simultaneously with the Attorney General and the Federal Trade Commission disclosing changes in its membership status. The notifications were filed for the purpose of extending the Act's provisions limiting the recovery of antitrust plaintiffs to actual damages under specified circumstances. Specifically, TRW Space and Electronics Group, Redondo Beach, CA; Astrolink, Bethesda, CA; Avail Networks, Inc., Ann Arbor, MI; Basis Communications Corporation, Fremont, CA; Bay Microsystems, Inc., Santa Clara, CA; Catamaran Communications, Miliptas, CA; CyberPath Inc., Piscataway, NJ; General Bandwidth, Austin, TX; Ishoni Networks, Santa Clara, CA; Optical Solutions, Plymouth, MN; Tachion Networks, Eatontown, NJ; TeraGlobal Communications Corp., San Diego, CA; TERAYON Communication Systems, Tel-Aviv, Israel; and Trendium Inc., Ft. Lauderdale, FL have been added as parties to this venture. The following members have changed their names: Future Software Private Ltd. to Future Communications Software, San Jose, CA; and RADWIZ Ltd. to TERAYON Communication Systems, Tel-Aviv, Israel.

The following principal members have downgraded to auditing members: KDD, Tokyo, Japan; Panduit Corporation, Tinley Park, IL; Philips Research Labs, Aachen, Germany; Scientific Research Corp., Atlanta, GA; and Sumitomo Electric USA, Inc., Santa Clara, CA. The following auditing members have upgraded to principal members: GlobeSpan, Woodbridge, NJ; GTE Laboratories, Inc., Waltham, MA; Premisys Communications, Fremont, CA; and Zhone Technologies, Inc., Fremont, CA. Also, Adaptive Broadband Corporation, Sunnyvale, CA; AMCC, San Diego, CA; Ascom, Bern, Switzerland; Boeing Company, Seattle, WA; Booz Allen & Hamilton, McLean, VA; Cerent Corporation, Petaluma, CA; CYLINK Corp., Sunnyvale, CA; ETRI, Taejeon, South Korea; Hewlett-Packard, Sunnyvale, CA; IBM, Research Triangle Park, NC; Inrange Technologies Corporation, Mount Laurel, NJ; INTRACOM S.A., Peania, Greece; Italtel, Settimo Milanese, Italy; Korea Telecom, Seoul, South Korea; Litton Network Access Systems, Roanoke, VA; Madge Networks Inc., Wexham, United Kingdom; Maker Communication, Inc., Westborough, MA; Matra Marconi Space, Toulouse, France; Microsoft Corporation, Redmond, WA; Mitsubishi Rayon Co. Ltd., Tayohash Aichi, Japan; National Communications System, Arlington, VA; Nokia Corp., Helsinki, Finland; Novanet Semiconductor, Raanana, Israel; Olicom A/S, Lyngby, Denmark; Pulse Communications, Inc., Herndon, VA; Qwest Communications, Arlington, VA; SALIX Technologies, Inc., Rockville, MD; SITA, Valbonne, France; StorageTek, Brooklyn Park, MN; StratumOne, Santa Clara, CA; Tekelec, Inc., Calabasas, CA; Telecom Italia, Rome, Italy; Williams Communications, Tulsa, OK; 2Wire, Inc., Milpitas, CA; and Sonoma Systems, Marina Del Rey, CA have been dropped as parties to this venture.

No other changes have been made in either the membership or planned activity of the group research project. Membership in this group research project remains open, and The ATM Forum intends to file additional written notification disclosing all changes in membership.

On April 19, 1993, The ATM Forum filed its original notification pursuant to Section 6(a) of the Act. The Department of Justice published a notice in the Federal Register pursuant to Section 6(b) of the Act on June 2, 1993 (58 FR 31415).

The last notification was filed with the Department on January 10, 2000. A notice has not yet been published in the Federal Register.

Constance K. Robinson,
Director of Operations, Antitrust Division.

[FR Doc. 00-17399 Filed 7-10-00; 8:45 am]

BILLING CODE 4410-11-M